DEPARTMENT OF AGRICULTURE

Natural Resources Conservation Service

[Docket No. NRCS-2024-0019]

Notice of Intent To Prepare an Environmental Impact Statement for the North Cache Valley Watershed Plan Project in Franklin County, Idaho and Cache County, Utah

AGENCY: Natural Resources Conservation Service, USDA.

ACTION: Notice of intent (NOI) to prepare an environmental impact statement (EIS).

SUMMARY: The Natural Resources Conservation Service (NRCS) Idaho State Office announces its intent to prepare an EIS for the North Cache Valley Project Watershed Plan (Watershed Plan), located within the North Cache Valley Watershed in Lewiston, Utah. The proposed Watershed Plan will examine alternative solutions to provide improved agricultural water management and to enhance recreational facilities. The project is being planned for areas within the watershed located in Franklin County, Idaho and Cache County, Utah. The project area is comprised of the irrigation service area within the watershed which fits into the watershed plan's primary purpose of Agricultural Water Management. The Project Area includes developed and undeveloped agricultural land and small farm communities. The primary purpose for this Watershed Plan is to provide more reliable management of agricultural water in the Project Area and to enhance existing recreational opportunities in the watershed. This Watershed Plan is needed to improve impaired drainage infrastructure; provide an efficient and reliable irrigation water supply; improve water management and measurement; reduce seepage loss in existing conveyance systems; and to expand the limited recreational opportunities in the watershed. NRCS is requesting comments to identify significant issues, potential alternatives, information, and analyses relevant to the proposed action from all interested individuals, Federal and State agencies, and Tribes.

DATES: We will consider comments that we receive by December 23, 2024. We will consider comments received after close of the comment period to the extent possible.

ADDRESSES: We invite you to submit comments in response to this notice. You may submit your comments through one of the methods below:

• Federal eRulemaking Portal: Go to http://www.regulations.gov and search for docket ID NRCS-2024-0019. Follow the online instructions for submitting comments; or

• Mail or Hand Delivery: Dan Murdock, Water Resources Planning Specialist, USDA, NRCS, Idaho State Office, 9173 W Barnes Drive, Suite C, Boise, Idaho 83709. In your comments, specify the docket ID NRCS-2024-0019.

All comments received will be posted without change and made publicly available on www.regulations.gov.

FOR FURTHER INFORMATION CONTACT: Dan Murdock, telephone: (208) 685-6990; email: daniel.murdock@usda.gov.

Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purposes for the Watershed Plan is to improve agricultural water management and recreation development in the Project Area. Watershed planning is authorized under the Watershed Protection and Flood Prevention Act of 1954 (Pub. L. 83-566), as amended, and the Flood Control Act of 1944 (Pub. L. 78-534).

Franklin County, Idaho is the Sponsoring Local Organization for this project with Cub River Irrigation Company (CRIC) and Cache County, Utah as co-sponsors. The project is essential to improve agricultural water management and enhance recreational development in the watershed.

This action is needed to address drainage, water management, and recreation issues for the Project Area. This action is needed to better manage and remove drainage and flood flows in a timely manner; provide an efficient, reliable irrigation water supply; construct a sustainable distribution system; increase pumping efficiencies; and conserve water. Water conservation would be accomplished by reducing open channel inefficiencies, seepage losses, and evaporation.

Estimated Federal funds required for the construction of the proposed action may exceed $25 million and the proposed action will, therefore, require congressional approval per the 2018 Agriculture Appropriations Act amended funding threshold. In accordance with the regulation in 7 CFR 650.7(a)(2), an EIS is required for projects requiring congressional approval.

Preliminary Proposed Action and Alternatives, Including No Action

The EIS objective is to formulate and evaluate alternatives for the purposes of agricultural water management and public recreation in the Franklin County, Idaho Project Area. The EIS is expected to evaluate three alternatives: two action alternatives and one no action alternative.

The alternatives that may be considered for detailed analysis include:

• Alternative 1—No Action Alternative: Taking no action would consist of activities conducted if no Federal action or funding were provided. If the No Action Alternative is selected, water flows would pass through the same historic channels, waterways, and drainage crossings as they currently do with issues continuing, dependent on the nature, timing, and severity of the events. Agricultural fields would continue to flood during rain-on-snow events, including the extensive saturation and killing of crops. Irrigation water would continue to be lost through seepage and evaporation from the earthen canals and existing irrigation methods would remain unchanged or continue to change as farmers choose to install pumps and pressurize their own irrigation systems. Additionally, the soils saturated seasonally by the canal seepage would continue to be saturated and soured and unusable for agricultural production. No new stations would be constructed to consolidate the system. There would be no recreational access points constructed on the Bear River. No Federal action or funding would be associated with the No Action Alternative.

• Alternative 2—Proposed Action—Bear River Two Pump Station. This alternative would include various actions to provide agricultural water management and public recreation benefits to the area. The Proposed Action would install 19,000 feet of conduit and place five pumps for drainage management. In many areas, the existing canal and ditches will be left open and used for flood control purposes, as they historically have been, including improvements to the Choll's Spill to allow the water flows to pass to the Cub River with minimal manual regulation and reduced risks. The existing canal along 800 West below 800 South in Lewiston, Utah, would also remain open and convey the water flows. Irrigation pipelines will be dual purposed in locations where it would not be cost effective or feasible to build conduits and will allow water to be pumped out using a mobile pump with a quick connection to the irrigation system to back pressure the system and allow discharge to the system drains used to winterize the irrigation system. This alternative also includes measures to construct two new pump stations, relocate one pump station, remove four pump stations, and enclose 19.5 miles of open canal for agricultural water management purposes. This alternative would pull Bear River water from two pump station (a north and a south site), preventing the need to enlarge the existing electrical grid. Finally, this alternative would construct a public recreational access site to the Bear River adjacent to 2000 South in Lewiston, Utah, along the banks of the Bear River. This site would consist of public parking and a boat ramp for non-motorized watercraft.

• Alternative 3—Proposed Action—Bear River One Pump Station. The Proposed Action would include all the same project measures as Alternative 2 with the following difference: under this alternative, all the Bear River water used by CRIC would be pulled from a single pump station rather than from two, requiring larger pipeline diameters and bigger pumps. This alternative would also require an enlargement of the electrical grid expected to cost around $1 million dollars.

Summary of Expected Impacts

As mentioned above, the estimated Federal contribution to construction cost will exceed $25 million.

The EIS will be prepared as required by section 102(2)(C) of the National Environmental Policy Act of 1969 (NEPA); the Council on Environmental Quality Regulations (40 CFR parts 1500-1508); and NRCS regulations that implement NEPA in 7 CFR part 650.

Resource concerns for scoping were identified and categorized as relevant or not relevant to the proposed action. Franklin County, Idaho and NRCS evaluated the current conditions for resources in the Project Area including soil, water, air, plants, animals, and humans along with relevant resource concerns for each proposed solution. Environmental resources in the Project Area consist of the natural and human-made environment. Resource concerns to be identified and addressed in the Watershed Plan-EIS include: soils; prime and unique farmland; upland erosion; surface and groundwater quality and quantity; wetlands and Waters of the United States; floodplains; air quality; climate change; endangered and threatened plant and animal species; riparian areas; invasive species; fish and wildlife; migratory birds; cultural and historic resources; environmental justice; public health and safety; and transportation, among others.

Anticipated Permits and Authorizations

The following permits and authorizations are anticipated to be required:

• Federal Emergency Management Agency, Floodplain Development Permit. Implementation of the proposed action would require coordination with the local floodplain administrator and may require a Floodplain Development Permit to ensure all development and engineering requirements for construction within the Special Flood Hazard Areas are implemented.

• Clean Water Act (CWA) and National Pollutant Discharge Elimination System (NPDES). The project would require water quality certification under section 401 of the CWA, permitting under section 402 of the NPDES, and section 404 of the CWA for potential wetland impacts.

• Encroachment Permit. The proposed action would require coordination and permitting with the Idaho Transportation Department and the Utah Department of Transportation for temporary construction work within State and Federal roadway rights-of-way.

• Utah Pollutant Discharge Elimination System (UPDES) Construction Permit. A construction permit will be required through the UPDES.

• Stream Alteration Permit. The proposed action will require coordination and permits with the Idaho Department of Water Resources and Utah Division of Water Rights for bank alterations of the Bear River for the pump stations and recreational access. This permit is typically done jointly by both Idaho and Utah with the U.S. Army Corps of Engineers to get State and section 404 of the Clean Water Act approval and authorization through a single application.

• National Historic Preservation Act (NHPA) Section 106. Consultation with Tribal Nations and interested parties would be conducted as required by the NHPA.

• Local Encroachment. Consultation and potential encroachment permits would be required with Franklin County, Idaho; Lewiston City, Utah; and Cache County, Utah, for all construction work within the local roadway rights-of-way.

Schedule of Decision-Making Process

A Draft EIS (DEIS) will be prepared and circulated for review and comment by agencies, Tribes, consulting parties, and the public for 45 days as required by the regulations in 40 CFR 1503.1, 1502.20, 1506.11, and 1502.17, and 7 CFR 650.13. The DEIS is anticipated to be published in the Federal Register, approximately 24 months after publication of this NOI. A Final EIS is anticipated to be published within 3 months of completion of the public comment period for the DEIS.

NRCS will decide whether to implement one of the action alternatives as evaluated in the EIS. A Record of Decision will be completed after the required 30-day waiting period and will be publicly available. The responsible Federal official and decision maker for NRCS is the Idaho NRCS State Conservationist. The Responsible Federal Official (RFO) and decision maker for NRCS is the Idaho State Conservationist.

Public Scoping Process

A public scoping meeting was held on November 19, 2020. Comments received, including the names and addresses of those who commented, were part of the public record. Scoping meeting presentation materials were available for review and comment for 30 days from November 19, 2020, through December 18, 2020.

Federal, State, Tribal, local agencies and representatives, and the public were invited to take part in the watershed plan scoping period. Franklin County, Idaho, and NRCS organized the public scoping meeting to provide an opportunity to review and evaluate the project alternatives, express concern, or support, and gain further information regarding the project. To determine the most viable alternatives for the EIS, Franklin County, Idaho, used input obtained during public scoping discussions to focus on relevant resource concerns and issues and eliminated those that were not relevant from further detailed study.

NRCS will coordinate the scoping process to correspond with section 106 of the National Historic Preservation Act (NHPA) (54 U.S.C. 306108) as allowed in 36 CFR 800.2(d)(3) and 800.8.

Identification of Potential Alternatives, Information, and Analyses

NRCS invites agencies, Tribes, consulting parties, and individuals that have special expertise, legal jurisdiction, or interest in the North Cache Valley Watershed Plan-EIS to provide written comments concerning the scope of the analysis and identification of potential alternatives, information, and analyses relevant to the Proposed Action.

The information about historic and cultural resources within the area potentially affected by the proposed project will assist NRCS in identifying and evaluating impacts to such resources in the context of both NEPA and NHPA.

NRCS will consult with Native American Tribes on a government-to-government basis in accordance with the regulations in 36 CFR 800.2 and 800.3, Executive Order 13175, and other policies. Tribal concerns, including impacts on Indian trust assets and potential impacts to cultural resources and historic properties, will be given due consideration.

Authorities

This document is published as specified by the NEPA regulations regarding publication of an NOI to issue an EIS (40 CFR 1501.9(d)). Watershed planning is authorized under the Watershed Protection and Flood Prevention Act of 1954, as amended and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202) 690-7442; or (3) email: program.intake@usda.gov.

USDA is an equal opportunity provider, employer, and lender.

Loretta Kassib,
Acting Idaho State Conservationist, Natural Resources Conservation Service.

[FR Doc. 2024-27417 Filed 11-21-24; 8:45 am]

BILLING CODE 3410-16-P